DEPARTMENT OF ENERGY

Federal Energy Regulatory Commission

[Docket No. RP96-389-086]

Columbia Gulf Transmission Company; Notice of Negotiated Rate Filing

May 21, 2003.

Take notice that on May 13, 2003, Columbia Gulf Transmission Company (Columbia Gulf) tendered for filing the following contract for disclosure of a negotiated rate transaction:

First Amendment to Service Agreement No. 75267 between Columbia Gulf Transmission Company and FPL Energy Power Marketing, Inc., Dated March 21, 2003, as amended May 7, 2003.

In addition, Columbia Gulf request as part of its filing, FERC Gas Tariff, Second Revised Volume No. 1, Eleventh Revised Sheet No. 316, a proposed effective date of May 15, 2003.

Columbia Gulf states that it has served copies of the filing on all parties identified on the official service list in Docket No. RP96-389.

Any person desiring to be heard or to protest said filing should file a motion to intervene or a protest with the Federal Energy Regulatory Commission, 888 First Street, NE., Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Comment Date: May 27, 2003.

Magalie R. Salas,
Secretary.

[FR Doc. 03-13305 Filed 5-28-03; 8:45 am]

BILLING CODE 6717-01-P